FEDERAL COMMUNICATIONS COMMISSION

47 CFR Part 73

[DA 04-2501; MB Docket No. 04-319, RM-10984]

Radio Broadcasting Services; Clinchco, VA and Coal Run, KY

AGENCY: Federal Communications Commission.

ACTION: Proposed rule.

SUMMARY: The Audio Division requests comments on a petition filed by East Kentucky Broadcasting Corp. proposing the substitution of Channel 221C3 for Channel 276A at Coal Run, Kentucky, and the modification of Station WPKE-FM's license accordingly. To accommodate the upgrade, petitioner also proposes the substitution Channel 276A for Channel 221A at Clinchco, Virginia, and the modification of Station WDIC-FM's license accordingly. Channel 221C3 can be substituted at Coal Run in compliance with the Commission's minimum distance separation requirements with a site restriction of 19.2 kilometers (11.9 miles) southeast to avoid a short-spacing to the licensed site for Station WZAQ(FM), Channel 222A, Louisa, Kentucky. The coordinates for Channel 221C3 at Coal Run are 37-23-57 NL and 82-23-42 WL. Additionally, Channel 276A can be substituted at Clinchco at Station WDIC-FM's presently licensed site. The coordinates for Channel 276A at Clinchco are 37-08-42 NL and 82-23-22 WL As an “incompatible channel swap,” in accordance with the provisions of Section 1.420(g)(3) of the Commission's Rules, we will not accept competing expressions of interest for the use of Channel 221C3 at Coal Run, Kentucky, or require petitioner to demonstrate the existence of an equivalent class channel for the use of other interested parties.

DATES: Comments must be filed on or before October 4, 2004, reply comments on or before October 19, 2004.

ADDRESSES: Federal Communications Commission, Washington, DC 20554. In addition to filing comments with the FCC, interested parties should serve the petitioner, or its counsel or consultant, as follows: Howard J. Barr, Esq., Womble, Carlyle, Sandridge Rice, PLLC, 1401 Eye Street, NW., Suite 700, Washington, DC 20005 (Counsel for Petitioner).

FOR FURTHER INFORMATION CONTACT: Sharon P. McDonald, Media Bureau, (202) 418-2180.

SUPPLEMENTARY INFORMATION: This is a synopsis of the Commission's Notice of Proposed Rule Making, MB Docket No. 04-319, adopted August 10, 2004, and released August 12, 2004. The full text of this Commission decision is available for inspection and copying during normal business hours in the FCC Reference Information Center (Room CY-A257), 445 12th Street, SW., Washington, DC. The complete text of this decision may also be purchased from the Commission's copy contractor, Best Copy and Printing, Inc., Portals II, 445 12th Street, SW., Room CY-B402, Washington, DC 20054.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts. For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for Part 73 continues to read as follows:

Authority: 47 U.S.C. 154, 303, 334 and 336.

§ 73.202 [Amended]

2. Section 73.202(b), the Table of FM Allotments under Kentucky, is amended by adding Channel 221C3 and by removing Channel 276A at Coal Run.

3. Section 73.202(b), the Table of FM Allotments under Virginia, is amended by adding Channel 276A and by removing Channel 221A at Clinchco.

Federal Communications Commission.
John A. Karousos,
Assistant Chief, Audio Division, Media Bureau.

[FR Doc. 04-19025 Filed 8-18-04; 8:45 am]

BILLING CODE 6712-01-P